DEPARTMENT OF COMMERCE

National Oceanic and Atmospheric Administration

RIN 0648-XE920

Pacific Fishery Management Council; Public Meeting

AGENCY: National Marine Fisheries Service (NMFS), National Oceanic and Atmospheric Administration (NOAA), Commerce.

ACTION: Notice; public meeting.

SUMMARY: The Pacific Fishery Management Council's (Council) Salmon Subcommittee of the Scientific and Statistical Committee will hold a joint methodology review meeting with the Salmon Technical Team.

DATES: The meeting will be held on Tuesday, October 18, 2016, from 1 p.m. until business for the day is complete.

ADDRESSES: The meeting will be held in the Large Conference Room of the Pacific Council.

Council address: Pacific Council, 7700 NE Ambassador Place, Suite 101, Portland, OR 97220-1384.

FOR FURTHER INFORMATION CONTACT: Mr. Mike Burner, Pacific Council; (503) 820-2414.

SUPPLEMENTARY INFORMATION: The purpose of the methodology review meeting is to discuss and review proposed changes to analytical methods used in salmon management. Recommendations from the methodology review meeting will be presented at the November 13-21, 2016 Council meeting in Garden Grove, CA where the Council is scheduled to take final action on the proposals. One topic, a forecast model for Sacramento River winter Chinook, was adopted by the Council at their September 12-20, 2016 meeting in Boise, ID for consideration at the methodology review meeting.

Although non-emergency issues not contained in the meeting agenda may be discussed, those issues may not be the subject of formal action during the meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2425 at least 10 business days prior to the meeting date.

Authority: 16 U.S.C. 1801 et seq.

Dated: September 28, 2016.
Tracey L. Thompson,
Acting Deputy Director, Office of Sustainable Fisheries, National Marine Fisheries Service.

[FR Doc. 2016-23801 Filed 9-30-16; 8:45 am]

BILLING CODE 3510-22-P